DEPARTMENT OF JUSTICE

Executive Office for Immigration Review

Immigration Court Practice Manual and the Board of Immigration Appeals Practice Manual; Public Forum

AGENCY: Executive Office for Immigration Review, DOJ.

ACTION: Notice of meeting and solicitation of feedback.

SUMMARY: The Executive Office for Immigration Review (“EOIR”) invites interested parties to attend a public forum to discuss and provide feedback on EOIR's Immigration Court Practice Manual and the Board of Immigration Appeals Practice Manual. EOIR also invites interested parties to provide written feedback from the public on the practice manuals.

DATES: The public forum will be held via GoToWebinar on May 24, 2022, from 2:00-3:00 p.m. EDT.

ADDRESSES: The public forum will be held online via GoToWebinar. Please RSVP to EngageWithEOIR@usdoj.gov by 5:00 p.m. EDT on May 23, 2022, with the name(s) of the attendee(s), any relevant organization, and a valid email address.

Public Participation

This public forum is open to the public. Interested persons should RSVP to EngagewithEOIR@usdoj.gov by 5:00 p.m. EDT on May 23, 2022, with the name(s) of the attendee(s), any relevant organization, and a valid email address. EOIR will send webinar information and an agenda to those who RSVP. Attendance for this program will be limited to the first 500 participants to register.

EOIR also welcomes written feedback from the public. Written submissions may be submitted by email to EngagewithEOIR@usdoj.gov or by mail to Lauren Alder Reid, Assistant Director, Office of Policy, Executive Office for Immigration Review, 5107 Leesburg Pike, Suite 1800, Falls Church, VA 22041, and are due no later than 5:00 p.m. EDT on June 7, 2022. All media inquiries should be directed to the Communications and Legislative Affairs Division at pao.eoir@usdoj.gov.

FOR FURTHER INFORMATION CONTACT: Lauren Alder Reid, Assistant Director, Office of Policy, Executive Office for Immigration Review, 5107 Leesburg Pike, Falls Church, VA 22041, telephone (703) 305-0289.

SUPPLEMENTARY INFORMATION: The Executive Office for Immigration Review (“EOIR”) maintains a Policy Manual, which contains a practice manual for the immigration courts, https://www.justice.gov/eoir/eoir-policy-manual/part-ii-ocij-practice-manual, and a practice manual for the Board of Immigration Appeals (“BIA”), https://www.justice.gov/eoir/eoir-policy-manual/iii (“the Practice Manuals”). The Practice Manuals provide uniform standards for practice before the immigration court and BIA.

EOIR is currently conducting a comprehensive review of the Practice Manuals, and welcomes all suggestions or concerns from the public to inform this review. In particular, EOIR is considering revisions to enhance procedural consistency across all immigration courts and courtrooms. Members of the public may submit feedback at the public forum or in writing to the email address or mailing address outlined above. The purpose of the above deadline for written feedback is to give the public the opportunity to contribute to this comprehensive review, but EOIR will continue to update the Practice Manuals as appropriate. Following the closing date for public comments on this comprehensive review, EOIR encourages interested parties to continue to submit comments about the Practice Manuals as they are “living documents,” and the ability for the public to submit comments is ongoing.

Lauren Alder Reid,
Assistant Director, Office of Policy, Executive Office for Immigration Review.

[FR Doc. 2022-10185 Filed 5-11-22; 8:45 am]

BILLING CODE P